DEPARTMENT OF LABOR

Employment and Training Administration

[NAFTA—4070]

Consolidated Metco, Inc, Rivergate Plant, Portland, Oregon; Notice of Termination of Investigation

Pursuant to Title V of the North American Free Trade Agreement Implementation Act and in accordance with Section 250(a), Subchapter D, Chapter 2, Title II of the Trade Act of 1974, as amended (19 U.S.C. 2331), an investigation was initiated on August 10, 2000, in response to a worker petition which was filed by the International Association of Machinists and Aerospace Workers, District 24, Local Lodge 1432, on behalf of workers at Consolidated Metco, Inc., Rivergate Plant, Portland, Oregon.

The petitioner has requested that the petition be withdrawn. Consequently further investigation in this case would serve no purpose, and the investigation has been terminated.

Signed in Washington, D.C. this 20th day of October, 2000.
Linda G. Poole,
Certifying Officer, Division of Trade Adjustment Assistance.

[FR Doc. 00-28024 Filed 10-31-00; 8:45 am]

BILLING CODE 4510-30-M